NATIONAL SCIENCE FOUNDATION

Notice of Permit Applications Received Under the Antarctic Conservation Act of 1978

AGENCY: National Science Foundation.

ACTION: Notice of permit applications received.

SUMMARY: The National Science Foundation (NSF) is required to publish notice of permit applications received to conduct activities consistent with the Antarctic Conservation Act of 1978. NSF has published regulations under the Antarctic Conservation Act of 1978 in the Code of Federal Regulations. This is the required notice of permit applications received.

DATES: Interested parties are invited to submit written data, comments, or views with respect to this permit application by October 14, 2025. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 16 U.S.C. 2401 et seq.), as amended by the Antarctic Science, Tourism and Conservation Act of 1996 (Pub. L. 104-227), has developed regulations (45 CFR parts 670 to 674) for the establishment of a permit system for various activities in Antarctica related to the designation of certain animals and certain geographic areas as requiring special protection, among other purposes.

Application Details

Permit Application: 2026-001

1. Applicant: Lynne Talley, Scripps Institution of Oceanography, UCSD, La Jolla, CA 92093-0230.

Activity for Which Permit Is Requested: Waste Management (45 CFR 671). The applicant is seeking a waste management permit for waste management activities associated with the deployment of floating oceanographic profiling instruments (Argo floats) in Southern Ocean waters. The Argo floats would autonomously collect temperature, salinity, oxygen, pH, nitrate, fluorescence, backscatter, and irradiance from 0 to 2,000 m, every 10 days. The floats would freely drift and would likely leave and enter the region over the course of their operational lifetimes. The applicant proposes to release a maximum of 150 Argo floats south of 60° S during the permit period. Float dimensions are 75 inches tall by 9 inches diameter, weighing approximately 65 lbs. Each float includes 19DD lithium cells, with approximately 0.198 gm of lithium per float. The floats would drift at 1,000 m depth and come to the surface every 10 days. Their lifetime is approximately 5 years, after which the batteries would be depleted and the floats would no longer surface, but would remain in the ocean and sink to the ocean floor. The Argo floats deployed in the Southern Ocean would be part of a global array. The Argo array provides operational and research data that inform nowcast and forecast services, contributing to saving lives, avoiding property damage, and informing the public and government responses to environmental variability and change.

Location: Southern Ocean.

Dates of Permitted Activities: November 1, 2025-June 30, 2030.

Permit Application: 2026-002

2. Applicant: Randall Reeves, 4343 Sequoyah Rd., Oakland, CA 94605.

Activity for Which Permit Is Requested: Waste Management (45 CFR 671). The applicant proposes to operate a sailing yacht, conduct shore excursions, and operate a remotely piloted aircraft system in the Antarctic Peninsula region. The yacht would carry up to 250 gallons of diesel fuel in a combination of internal and external storage tanks, up to 10 gallons of gasoline. A spill kit and absorbent pads would be available during all fueling and fuel transfers. Solid waste will be contained and stored on the vessel, and disposed of outside of the Antarctic Treaty area. The applicant would operate small, battery-operated remotely piloted aircraft systems (RPAS) consisting, in part, of a quadcopter equipped with cameras to aid in navigation and to collect footage of the Antarctic. The quadcopter would not be flown over wildlife, or over Antarctic Specially Protected Areas or Historic Sites and Monuments. The RPAS would only be operated by a pilot with extensive experience and flights would not occur if the aircraft cannot be flown in GPS mode. Several measures would be taken to prevent against loss of the quadcopters including terminating flights with at least 40% battery life remaining; having an observer on the lookout for wildlife, people, and other hazards; maintaining flights below 400 ft above ground level, and ensuring that the separation between the operator and quadcopter does not exceed visual line of sight. The applicant is seeking a Waste Permit to cover any accidental releases that may result from operating the vessel, conducting shore excursions, or operating the RPAS.

Location: Antarctic Peninsula region.

Dates of Permitted Activities: December 1, 2025-January 2, 2030.

Permit Application: 2026-003

3. Applicant John Kennedy, 665 Spruce St., Box 322, Del Norte, CO 81132.

Activity for Which Permit Is Requested: Waste Management (45 CFR 671). The applicant proposes to operate a sailing yacht, conduct shore excursions, and operate a remotely piloted aircraft system in the Antarctic Peninsula region. The yacht would carry up to 1,600 L of diesel fuel in a combination of internal and external storage tanks, up to 38 L of gasoline. A spill kit and absorbent pads would be available during all fueling and fuel transfers. Solid waste will be contained and stored on the vessel, and disposed of outside of the Antarctic Treaty area. The applicant would operate small, battery-operated remotely piloted aircraft systems (RPAS) consisting, in part, of a quadcopter equipped with cameras to aid in navigation and to collect footage of the Antarctic. The quadcopter would not be flown over wildlife, or over Antarctic Specially Protected Areas or Historic Sites and Monuments. The RPAS would only be operated by a pilot with extensive experience and flights would not occur if the aircraft cannot be flown in GPS mode. Several measures would be taken to prevent against loss of the quadcopters including restricting flights occurring in winds over 20 knots; terminating flights with at least 40% battery life remaining; having an observer on the lookout for wildlife, people, and other hazards; maintaining flights below 400 ft above ground level; and ensuring that the separation between the operator and quadcopter does not exceed visual line of sight. The applicant is seeking a Waste Permit to cover any accidental releases that may result from operating the vessel, conducting shore excursions, or operating the RPAS.

Location: Antarctic Peninsula region.

Dates of Permitted Activities: January 2, 2026-April 1, 2030.

Jean C. Allen,
Office Director, Office of Polar Programs.

[FR Doc. 2025-17443 Filed 9-10-25; 8:45 am]

BILLING CODE 7555-01-P